ENVIRONMENTAL PROTECTION AGENCY

[FRL 9597-01-OA]

Request for Nominations of Candidates for the National Environmental Education Advisory Council (NEEAC)

AGENCY: Environmental Protection Agency (EPA).

ACTION: Notice.

SUMMARY: The U.S. Environmental Protection Agency (EPA or Agency Office of Public Engagement and Environmental Education is soliciting applications for environmental education professionals for consideration to serve on the National Environmental Education Advisory Council (NEEAC). There are multiple vacancies on the Advisory Council that must be filled. Additional avenues and resources may be utilized in the solicitation of applications. “In accordance with Executive Order 14035 (June 25, 2021), EPA values and welcomes opportunities to increase diversity, equity, inclusion and accessibility on its federal advisory committees. EPA's federal advisory committees have a workforce that reflects the diversity of the American people.”

DATES: Nominations should be submitted by April 13, 2022 per the instructions below.

FOR FURTHER INFORMATION CONTACT: Any member of the public wishing further information regarding this Notice and Request for Nominations may contact Mr. Javier Araujo, Designated Federal Officer (DFO), Office of Environmental Education (OEE), by telephone at (202) 441-8981 or via email at araujo.javier@epa.gov. General information concerning the NEEAC can be found on the following website: https://www.epa.gov/education/national-environmental-education-advisory-council-neeac.

SUPPLEMENTARY INFORMATION:

Background

The National Environmental Education Act requires that the council be comprised of (11) members appointed by the Administrator of the EPA. Members represent a balance of perspectives, professional qualifications, and experience. The Act specifies that members must represent the following sectors: Primary and secondary education (One of whom shall be a classroom teacher), two members: Colleges and universities, two members; business and industry, two members; non-profit organizations, two members. state departments of education and natural resources, two members, and one member to represent senior Americans. Members are chosen to represent various geographic regions of the country, and the Council strives for a diverse representation. The professional backgrounds of Council members should include education, science, policy, or other appropriate disciplines. Each member of the Council shall hold office for a one (1) to three (3) year period. Members are expected to participate in up to two (2) meetings per year and monthly or more conference calls per year. Members of the council shall receive compensation and allowances, including travel expenses at a rate fixed by the Administrator.

Request for Nominations: Specific experience in environmental justice and climate change education is essential.

Expertise Sought: The NEEAC staff office seeks candidates with demonstrated experience and or knowledge in any of the following environmental education issue areas: (a) Integrating environmental education into state and local education reform, improvement and environmental justice initiatives; (b) state, local and tribal level capacity building for environmental education; (c) cross-sector partnerships to foster environmental education in Minority Serving Institutions and increase the conversation around using EE as a tool to achieve environmental justice, climate equity, and economic prosperity; (d) leveraging resources for environmental education in underserved communities; (e) design and implementation of environmental education research; (f) evaluation methodology; professional development for teachers and other education professionals; and targeting under-represented audiences, including low-income, multi-cultural, senior citizens and other adults.

The NEEAC is best served by a structurally and geographically diverse group of individuals. Each individual will demonstrate the ability to make a time commitment. In addition, the individual will demonstrate both strong leadership and analytical skills. Also, strong writing skills, communication skills and the ability to evaluate programs in an unbiased manner are essential. Team players, who can meet deadlines and review items on short notice are ideal candidates.

Process and Deadline for Submitting Nominations

Any interested and qualified individuals may be considered for appointment on the National Environmental Education Advisory Council. In order to apply, the following four items should be submitted in electronic format to the Designated Federal Officer, Javier Araujo, araujo.javier@epa.gov and contain the following: (1) Contact information including name, address, phone, and an email address; (2) a curriculum vitae or resume; (3) Include the specific area of expertise in environmental education and the sector in the subject line of your email submission; and (4) a one page commentary on the applicant's philosophy regarding the need for, development, implementation and or management of environmental education.

Nominations should be submitted by April 4, 2022.

Submit nominations electronically to Javier Araujo, Designated Federal Officer, National Environmental Education Advisory Council, U.S. Environmental Protection Agency, email: araujo.javier@epa.gov.

FOR FURTHER INFORMATION CONTACT: For information regarding this Request for Nominations, please contact Mr. Javier Araujo, Designated Federal Officer, by email at: araujo.javier@epa.gov or phone at: 202-441-8981. General Information concerning NEEAC can be found on the EPA website at: https://www.epa.gov/education/national-environmental-education-advisory-council-neeac. The short list candidates will be required to fill out the Confidential Disclosure Form for Special Government Employees serving Federal Advisory Committees at the U.S. Environmental Protection Agency. (EPA form 3110-48). This confidential form allows government officials to determine whether there is a statutory conflict between that person's public responsibilities (which include membership on a Federal Advisory Committee) and private interests and activities and the appearance of a lack of impartiality as defined by Federal regulation. The form may be viewed and downloaded from the following URL address. Please note this form is not an application form. http://intranet.epa.gov/ogc/ethics/EPA3110-48ver3.pdf.

Rosemary Enobakhare,
Associate Administrator, Office of Public Engagement and Environmental Education.

[FR Doc. 2022-05254 Filed 3-11-22; 8:45 am]

BILLING CODE 6560-50-P